DEPARTMENT OF COMMERCE

National Oceanic and Atmospheric Administration

Proposed Information Collection; Comment Request: Alaska Community Quota Entity (CQE) Program

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 13, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Patsy A. Bearden, NMFS Alaska Region, (907) 586-7008, or patsy.bearden@noaa.gov.

SUPPLEMENTARY INFORMATION:

I. Abstract

This request is for extension of a currently approved information collection.

The Alaska Community Quota Entity (CQE) Program allocates to eligible communities a portion of the quotas for groundfish, halibut, crab, and prohibited species in the Bering Sea and Aleutian Islands Management Area (BSAI). Currently, there are 98 CQE eligible communities (45 Individual Fishing Quota (IFQ) and quota share (QS) halibut and sablefish, 32 charter halibut, and 21 License Limitation Program (LLP) communities), although only a few communities are currently participating. The allocations provide communities the means for starting or supporting commercial fisheries business activities that will result in an ongoing, regionally based, fisheries-related economy. A non-profit corporate entity that meets specific criteria to receive transferred halibut or sablefish QS on behalf of an eligible community may lease the resulting IFQ to persons who are residents of the eligible community.

II. Method of Collection

Forms and applications are “fillable” on the computer screen at the NMFS Alaska Region Home Page at www.alaskafisheries.noaa.gov, and may be submitted to NMFS by mail, courier, fax, or attachment to an email.

III. Data

OMB Control Number: 0648-0665.

Form Number(s): None.

Type of Review: Regular submission (extension of a current information collection).

Affected Public: Individuals or households; not-for-profit institutions.

Estimated Number of Respondents: 90.

Estimated Time per Response: 200 hours, Application to become a CQE; 2 hours for Application to transfer QS-IFQ to or from CQE; 20 hours for Application for a CQE to receive a non-trawl LLP license; 1 hour for Application for Community Charter Halibut Permit; 40 hours for CQE Annual Report; 1 hour for CQE LLP Authorization Letter.

Estimated Total Annual Burden Hours: 1,908.

Estimated Total Annual Cost to Public: $683.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 6, 2015.
Sarah Brabson,
NOAA PRA Clearance Officer.

[FR Doc. 2015-19672 Filed 8-10-15; 8:45 am]

BILLING CODE 3510-22-P